DEPARTMENT OF COMMERCE

National Oceanic and Atmospheric Administration

Proposed Information Collection; Comment Request; Input of Value and Use of NOAA Tropical Cyclone Graphical and Text Products in Decision-Making

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 15, 2019.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Jennifer Sprague-Hildebrand, NOAA National Weather Service, 1325 East-West Highway, Silver Spring, MD 20910, 301-427-9065, and Jennifer.Sprague@noaa.gov.

SUPPLEMENTARY INFORMATION:

I. Abstract

This request is for a new information collection. The NOAA National Weather Service (NWS) National Hurricane Center (NHC) produces tropical cyclone text and graphical products to provide critical information about meteorological parameters of tropical storms and hurricanes that could threaten the United States and other countries. While NOAA has a good understanding of how many of its core partners (i.e., emergency management personnel and broadcast meteorologists/members of the media) use these graphics, it is interested in how other professionals within key sectors (i.e., transportation, marine, tourism, energy) and international users perceive these products and use them in decision-making. In particular, NOAA is interested in input on the NHC Track Forecast Cone (often referred to as the cone of uncertainty). In addition to appearing on NHC's website, the cone is widely disseminated on social media, online (e.g., local and national news websites), and on television—with broadcast meteorologists and private weather industry often making their own version of the graphic. This request is for a set of related data collection activities, including interviews, focus groups, and a survey to collect information from audiences that use NHC products, particularly the Track Forecast Cone.

II. Method of Collection

NOAA will collect information by conducting a web-based survey within the four sectors of interest (transportation, marine, tourism, and energy) and interviews and/or focus groups with international users.

III. Data

OMB Control Number: 0648-XXXX.

Form Number(s): None.

Type of Review: Regulation (New information collection).

Affected Public: Business or other for-profit organizations; Not-for-profit institutions; State, Local, or Tribal government; Federal government; International government.

Estimated Number of Respondents: 2,700 (2,660 for survey; 40 for interviews and/or focus groups).

Estimated Time per Response: 2,660 respondents × 30 minutes (survey); 40 respondents × 90 minutes (interviews and/or focus groups).

Estimated Total Annual Burden Hours: 1,370 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-10100 Filed 5-15-19; 8:45 am]

BILLING CODE 3510-KE-P